DEPARTMENT OF COMMERCE

National Oceanic and Atmospheric Administration

RIN 0648-XO34

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application contains all of the required information and warrants further consideration. The Assistant Regional Administrator has made a preliminary determination that the activities authorized under this EFP would be consistent with the goals and objectives of the Monkfish Fishery Management Plan (FMP). However, further review and consultation may be necessary before a final determination is made to issue an EFP. Therefore, NMFS announces that the Assistant Regional Administrator proposes to recommend that an EFP be issued that would allow 24 commercial fishing vessels to conduct research and compensation fishing operations that are otherwise restricted by the regulations governing the fisheries of the Northeastern United States. This EFP, which would enable vessels to harvest monkfish granted through the Monkfish Research Set-Aside (RSA) Program, would grant exemptions from the monkfish days-at-sea (DAS) possession limits in the Southern (SFMA) and Northern (NFMA) Fishery Management Areas, as well as exempt vessels from monkfish minimum size limits for on-board tagging purposes only.

Regulations under the Magnuson-Stevens Fishery Conservation and Management Act require publication of this notification to provide interested parties the opportunity to comment on applications for proposed EFPs.

DATES: Comments must be received on or before May 4, 2009.

ADDRESSES: You may submit written comments by any of the following methods:

• Email: DA9-072@noaa.gov. Include in the subject line “Comments on Monkfish Tagging EFP.”

• Mail: Patricia A. Kurkul, Regional Administrator, NMFS, NE Regional Office, 1 Blackburn Drive, Gloucester, MA 01930. Mark the outside of the envelope “Comments on monkfish tagging EFP, DA9-072.”

• Fax: (978) 281-9135.

FOR FURTHER INFORMATION CONTACT: Emily Bryant, Fishery Management Specialist, 978-281-9244.

SUPPLEMENTARY INFORMATION: An application for an EFP was submitted on March 5, 2009, for a project selected under the New England and Mid-Atlantic Fishery Management Councils' Monkfish RSA Program. The specific goals of the project are to determine monkfish movement patterns and compare 2009 migratory patterns to those observed in 2007. This EFP would grant an exemption from monkfish possession limits to 24 vessels for the purpose of harvesting RSA to fund this research project (i.e. compensation fishing). Funds generated by the compensation fishing will be used to pay for laboratory equipment, as well as salaries and stipends for principal investigators. This EFP would also exempt vessels from the monkfish minimum size restrictions for the purpose of tagging monkfish during compensation fishing activities. No undersized monkfish would be landed for sale.

Fishing would occur in the NFMA in statistical areas 513 and 514. In the SFMA, research would occur in statistical areas 536, 537, 612, 613, 614, 615, 645, and 631. These statistical areas break down into five study regions: The NFMA; northeast SFMA; offshore SFMA; central SFMA; and southern SFMA. Standard commercial gillnet net gear would be used following normal commercial operating procedures. The total number of days fishing will not exceed 141. The total number of hauls per day will be four, with a total of 50 nets per vessel, and a soak time of 24 to 72 hours. Researchers will tag 1,000 monkfish using T-bar tags in each of the five regions, for a total of 5,000 tagged individuals. In order to possess undersized monkfish on board vessels for the purpose of tagging, this research activity requires an exemption from monkfish minimum size limits at 50 CFR 648.93. No fish below minimum size would be landed for sale. Compensation fishing would occur May 2009 through April 2010, with tagging conducted in May through June 2009, except in the southern region of the SFMA, where tagging would be conducted in March through April 2010.

The 24 fishing industry collaborators would have access to 141 monkfish DAS that have been preliminarily awarded to the project through the Monkfish RSA Program. The applicant states that these vessels must be able to land at least 3,000 lb (1,361 kg) of whole monkfish (904 lb (410 kg) tail weight) per trip to achieve the goal of $2,800 per RSA DAS. In order to achieve this target catch, these fishing activities would require an exemption from monkfish DAS possession limits at § 648.94(b)(2). This exemption would provide these 24 vessels with the flexibility they need to generate sufficient income to meet projected costs of the research activity, while minimizing operating expenses. Based on the preliminary award of 141 DAS, this would require a total catch of 423,000 lb (191,870 kg) of whole monkfish (127,410 lb (57,792 kg) tail weight). Operating under this total landings cap, compensation fishing would continue until the required goal of 423,000 lb (191,870 kg) of whole monkfish is met, or until the awarded DAS have been fully utilized, whichever occurs first.

Aside from these exemptions, fishing activity will be conducted under normal commercial practices.

The applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited. If the research project is terminated for any reason prior to completion, any unused funds collected from catch sold to pay for research expenses may be refunded to NOAA.

Authority: 16 U.S.C. 1801 et seq.

Dated: April 13, 2009.
Kristen C. Koch,
Acting Director, Office of Sustainable Fisheries, National Marine Fisheries Service.

[FR Doc. E9-8887 Filed 4-16-09; 8:45 am]

BILLING CODE 3510-22-S